DEPARTMENT OF COMMERCE

National Oceanic and Atmospheric Administration

RIN 0648-XE157

North Pacific Fishery Management Council; Public Meeting

AGENCY: National Marine Fisheries Service (NMFS), National Oceanic and Atmospheric Administration (NOAA), Commerce.

ACTION: Notice of public meeting.

SUMMARY: The North Pacific Fishery Management Council (Council) Groundfish Plan Team will meet September 21, 2015 to September 24, 2015.

DATES: The meeting will be held on Monday, September 21, 2015 through Thursday, September 24, 2015, from 8 a.m. to 5 p.m., each day.

ADDRESSES: The meeting will be held at the Alaska Fishery Science Center Traynor Room 2076 and NMML Room 2039, 7600 Sand Point Way NE., Building 4, Seattle, WA 98115.

Council address: North Pacific Fishery Management Council, 605 W. 4th Ave., Suite 306, Anchorage, AK 99501-2252; telephone: (907) 271-2809.

FOR FURTHER INFORMATION CONTACT: Diana Stram, Council staff; telephone: (907) 271-2809.

SUPPLEMENTARY INFORMATION:

Agenda

Monday, September 21 to Thursday September 24, 2015

The agenda includes review of halibut discard mortality rates, upcoming assessment changes for Sablefish, EBS, AI and GOA Pacific cod, BSAI and GOA rockfish assessments, GOA Northern and southern rock sole, CIE review of BSAI Atka Mackerel, GOA pollock, review of a size structured octopus model and updates on the observer program, EBS bottom trawl survey, ecosystem considerations chapter, NMML report and Economic SAFE report. The Agenda is subject to change, and the latest version will be posted at http://www.npfmc.org/.

Special Accommodations

These meetings are physically accessible to people with disabilities. Requests for sign language interpretation or other auxiliary aids should be directed to Shannon Gleason at (907) 271-2809 at least 7 working days prior to the meeting date.

Dated: September 1, 2015.
Tracey L. Thompson,
Acting Deputy Director, Office of Sustainable Fisheries, National Marine Fisheries Service.

[FR Doc. 2015-21990 Filed 9-3-15; 8:45 am]

BILLING CODE 3510-22-P